DEPARTMENT OF COMMERCE

National Oceanic and Atmospheric Administration

[RTID 0648-XB224]

Gulf of Mexico Fishery Management Council; Public Meeting

AGENCY: National Marine Fisheries Service (NMFS), National Oceanic and Atmospheric Administration (NOAA), Commerce.

ACTION: Notice for request of proposals for Ageing Study on Gulf of Mexico Gray Triggerfish.

SUMMARY: The Gulf of Mexico Fishery Management Council is requesting proposals from qualified contractors to organize and conduct an Expanded Sampling and Ageing Study on Gulf of Mexico Gray Triggerfish.

DATES: This will be a 24-month project and a maximum $250,000 is available to fund the work. Proposal Submission Deadline: August 13, 2021.

ADDRESSES: Council address: Gulf of Mexico Fishery Management Council, 4701 W Spruce Street, Suite 200, Tampa, FL 33607; telephone: (813) 348-1630.

FOR FURTHER INFORMATION CONTACT: Dr. John Froeschke, Deputy Director, Gulf of Mexico Fishery Management Council; john.froeschke@gulfcouncil.org; telephone: (813) 348-1630.

SUPPLEMENTARY INFORMATION:

Proposal Submission Deadline Friday, August 13, 2021

The Gulf of Mexico Fishery Management Council (Council) seeks a highly-qualified contractor to organize and conduct an ageing study on Gulf of Mexico (Gulf) gray triggerfish, Balistes capriscus. The Term of Contract is 24 months and Maximum Funding Available for Work is $250,000. The contractor is tasked with evaluating and proposing new techniques to efficiently sample, process, and utilize different ageing structures (i.e., spines and otoliths) for gray triggerfish in the Gulf. Proposal applicants are encouraged to develop work plans to collaborate with state and federal partners to collect representative samples across a range of age classes. Typically, the various Gulf state and federal creel and port samplers would be able to contribute to this work; however, otoliths are not currently taken at dockside intercepts under current sample collection protocols. Sampling gray triggerfish otoliths that are small, fragile, and difficult to extract may require obtaining filleted carcasses (i.e., racks) from fishery-dependent intercepts. If additional samples are necessary, the proposal may consider an effective method for field collection of gray triggerfish otoliths and dorsal spines.

Gray triggerfish have historically been aged by counting translucent zones in the first dorsal spine since gray triggerfish otoliths are small, fragile, and difficult to extract. During the Data/Assessment workshop deliberations for SEDAR 62, it was noted that a study applying bomb radiocarbon validation to compare spine and otolith ages routinely resulted in lower age estimates from spines versus otoliths, and called into question the reliability of growth estimates derived from spine-based ages (Patterson et al. 2019: SEDAR62-WP-17).

Background

During its January 2021 meeting, the Council identified unspent Council funds in 2020. These unspent funds were primarily due to limited travel during the COVID-19 pandemic. The Council is considering funding a research study, on the ageing of gray triggerfish, that could be completed, available, and contributory to the scheduled SEDAR Research Track assessment of Gulf gray triggerfish to begin in 2024. The last assessment for Gulf gray triggerfish (SEDAR 62) was terminated because of irreconcilable data issues, with ageing of gray triggerfish being an outstanding concern.

Gray triggerfish have historically been aged by counting translucent zones in the first dorsal spines since gray triggerfish otoliths tend to be small, fragile, and difficult to extract. Allman et al. (2016) conducted an age validation study of gray triggerfish spines that revealed two peaks in translucent zone formation, which was interpreted as a doublet pattern (two closely spaced translucent zones) representing a single year in the life. However, during workshop deliberations for SEDAR 62, it was noted that a study applying bomb radiocarbon validation to compare spine and otolith ages resulted in otolith ages better aligning with known regional coral and otolith carbon-14 values compared to spines, which under-aged known records. Whereas, the comparison of vertebra versus otolith-derived ages indicated a close agreement (Patterson et al. 2019: SEDAR62-WP-17).

Shervette et al. (2021), conducted a study on gray triggerfish in Ghana and U.S. South Atlantic that compared ageing of spines and otoliths. They also developed a methodology for removing the otoliths from gray triggerfish. Whole otoliths were submerged in water and read against a black background with magnified stereoscope, and then each opaque zone was counted. Spines were also read and fish were aged by counting the number of translucent zones in the spine section. Two independent readers with ageing experience of 8 years +, read the otoliths and spines. This study found age estimates for spines ranged from 1 to 8 years and for otoliths 3 to 13 years. An age bias plot indicating a potential ageing bias starting at age-3 between spines and otoliths of gray triggerfish. Therefore, the Council is interested in funding an age study for Gulf gray triggerfish to reconcile ageing differences in hard parts. The Council also seeks expert advice from funded work to determine whether it is possible to develop an algorithm to convert spine-based ages to the more accurate otolith-based ages for Gulf gray triggerfish.

Scope of Work

The contractor will be responsible for all data products outlined below and is encouraged to contribute additional products and suggestions in the proposal for this work. The selected contractor is also responsible for a mid-term project summary report and a presentation of the final results to the Scientific and Statistical Committees and the Council. The proposed scope of work should include the following:

• Evaluating and proposing new techniques to efficiently sample, process, and utilize different ageing structures (i.e., spines and otoliths) for gray triggerfish in the Gulf.

• Clearly define how representative gray triggerfish samples will be obtained from various fleets (i.e., private recreational, for-hire, and commercial) and/or fishery-independent survey samples with the goal of constructing age-length keys from otolith-based ages. The proposal should include the methodology of the age validation work proposed with a clear rationale for that work, such as literature cited and the anticipated sample sizes of fish by age class (0-14 years).

• Typically, the various Gulf state and federal creel and port samplers would be able to contribute to this work; however, otoliths are not currently taken at dockside intercepts under current sample collection protocols. Thus, proposal applicants are encouraged to develop work plans to collaborate with state and federal partners to collect representative samples across a range of age classes.

• The proposal should include detailed methodology for extracting and processing otoliths and spines and a clear rationale for that scope, and the anticipated sample sizes of fish by age class.

• Compare gray triggerfish ages from otoliths and spines to determine whether it is possible to develop an algorithm to convert spine-based ages to the more accurate otolith-based ages. Describe the variance about these estimates for the conversion algorithm as appropriate.

• Proposals should provide information and rationale for the consideration of seasonal growth increment pattern validation.

Results and outcomes from this work will be provided to the Council and National Marine Fisheries Southeast Fisheries Science Center (SEFSC).

Application Process

Contractor Qualifications: The successful applicant or applicant team will have demonstrable experience in marine ecology.

How to Apply: Applicants should submit a proposal to Gulf of Mexico Fishery Management Council by email (rfp.graytriggerfish@gulfcouncil.org) by 11:59 p.m. on August 13, 2021. Additional information including funding specifications can be obtained through inquiry to this email address. Proposals should include the following elements:

Executive Summary: A summary of the work proposed, including a brief summary of the applicant's qualifications.

Proposed Scope of Work: See bulleted list above.

Qualifications of Applicant: A summary of the qualifications of the applicant and other team members, if applicable. A curriculum vitae should be included for each individual who is expected to work on the project.

Proposed Budget: A detailed budget, including the basis for the charges (e.g., hourly rates, fixed fees, approved federally negotiated overhead rate and other costs consistent with federally allowable costs for sub-contractors).

Proposed Timeline: A detailed timeline of field and laboratory collections, processing of samples, data analysis, and mid-term and final reports should be provided.

Letters of Support: Letters demonstrating collaboration with state and federal partners and fishermen to obtain adequate samples across age classes are highly encouraged.

Applicant References: Names, titles, full addresses, email addresses, and phone numbers for three clients for whom the applicant has provided similar services to those requested or are familiar with the applicant's work and the quality of the applicant's work products.

Proposal Evaluation Criteria and Next Steps

Proposals will be evaluated based on methodology and scope outlined in the proposed work plan. An ability to deliver, in a timely manner, a quality work product as determined by qualifications including prior experience, references, budget, and timelines is paramount. The Council may request additional information as deemed necessary or negotiate modifications prior to providing support for a proposal. Once a proposal is selected for funding, a formal contract will be provided to the applicants.

Disclaimer

1. This project is being funded by federal funding authorized under the Magnuson-Stevens Fishery Conservation and Management Act through NOAA Fisheries Service and the Gulf of Mexico Fishery Management Council NOAA award number NA20NMF4410011. Compliance with the Magnuson-Stevens Fishery Conservation and Management Act (Pub. L. 104-208 as amended), the current requirements of the Federal Office of Management and Budget, the Department of Commerce financial assistance standard terms and conditions, the National Oceanic and Atmospheric financial assistance administrative terms, all special award conditions specific to this award and all parts of the Uniform Guidance at Title 2 of the Code of Federal Regulations must be maintained.

2. The contractor is responsible for all costs conducting the work and presenting the final results to the Scientific and Statistical Committees and Council.

3. Proposals and their accompanying documentation will not be returned, but retained as part of the Councils administrative documents.

4. All applicants included in the proposal must disclose any conflicts of interest and/or pending civil/criminal/fishery legal actions.

5. The Council reserves the right to accept or reject any or all applications received, negotiate with all qualified applicants, cancel or modify this request for proposals in part or in its entirety, or change the application guidelines, when it is in the best interests of the Council.

Dated: July 7, 2021.
Tracey L. Thompson,
Acting Deputy Director, Office of Sustainable Fisheries, National Marine Fisheries Service.

[FR Doc. 2021-14785 Filed 7-12-21; 8:45 am]

BILLING CODE 3510-22-P